DEPARTMENT OF ENERGY

Federal Energy Regulatory Commission

[Docket No. CP10-413-000]

Tennessee Gas Pipeline Company; Notice of Request Under Blanket Authorization

May 6, 2010.

Take notice that on May 5, 2010, Tennessee Gas Pipeline Company (Tennessee), 1001 Louisiana Street, Houston, Texas 77002, filed a prior notice request pursuant to sections 157.205 and 157.216 of the Commission's regulations under the Natural Gas Act (NGA) for authorization to abandon in place an inactive offshore supply lateral, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Tennessee proposes to abandon approximately 7.51 miles of 10-inch diameter pipeline (Line No. 523M-2700) and associated meter and appurtenances located within the Eugene Island Area of the Outer Continental Shelf. Tennessee states that the subject facilities have been out of service since it was damaged by Hurricane Ike in September 2008. Tennessee asserts that is has not provided transportation service to any shippers through Line No. 523M-2700 for more than twelve months and there are no firm contracts associated with the receipt points located on the line. Tennessee estimates the cost to construct similar facilities today is approximately $18.4 million.

Any questions regarding the application should be directed to Susan T. Halbach, Senior Counsel, Tennessee Gas Pipeline Company, 1001 Louisiana Street, Houston, Texas 77002, at (713) 420-5751 (telephone) or (713) 420-1601 (facsimile); Debbie Kalisek, Analyst, Certificates & Regulatory Compliance, Tennessee Gas Pipeline Company, 1001 Louisiana Street, Houston, Texas 77002, at (713) 420-3292 (telephone) or (713) 420-1605 (facsimile).

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (http://www.ferc.gov) under the “e-Filing” link.

Kimberly D. Bose,
Secretary.

[FR Doc. 2010-11521 Filed 5-13-10; 8:45 am]

BILLING CODE 6717-01-P